DEPARTMENT OF DEFENSE

Office of the Secretary

Defense Intelligence Agency National Intelligence University Board of Visitors; Notice of Federal Advisory Committee Meeting

AGENCY: Defense Intelligence Agency, National Intelligence University, DoD.

ACTION: Notice of closed meeting.

SUMMARY: The Department of Defense is publishing this notice to announce that the following Federal Advisory Committee meeting of the National Intelligence University Board of Visitors has been scheduled. The meeting is closed to the public.

DATES: Thursday, June 6, 2019 (7:30 a.m. to 5:15 p.m.) and Friday, June 7, 2019 (7:30 a.m. to 1:00 p.m.).

ADDRESSES: Defense Intelligence Agency, 7400 Pentagon, ATTN: NIU, Washington, DC 20301-7400.

FOR FURTHER INFORMATION CONTACT: Dr. J. Scott Cameron, President, National Intelligence University, Bethesda, MD 20816, Phone: (301) 243-2118.

SUPPLEMENTARY INFORMATION:

Purpose: The Board will discuss several current critical intelligence issues and advise the Director, DIA, as to the successful accomplishment of the mission assigned to the National Intelligence University.

Agenda: The following topics are listed on the National Intelligence University Board of Visitors meeting agenda: Welcome and Overview by Chair and NIU President; IC 2025/NIU22/Strategic Plan Crosswalk; Governance Transfer from SECDEF to DNI; Regional Accreditation Update; Working Lunch with Board members and University leadership; Introduction of New Provost; Review and Way Forward for Leadership and Management in the IC Certificate Program; NIU Strategic Initiatives and Partnerships; Faculty Roles and Responsibilities; Board Business; Executive Session; NIU Academic Program Updates; NIU Research Program Highlights; Board Business in Executive Session; Meeting Read-out by Board Chair to IC Senior Leaders.

The entire meeting is devoted to the discussion of classified information as defined in 5 U.S.C. 552b(c)(1) and therefore will be closed. Pursuant to 41 CFR 102-3.105(j) and 102-3.140, and section 10(a)(3) of the Federal Advisory Committee Act of 1972, the public or interested organizations may submit written statements to the National Intelligence University Board of Visitors about its mission and functions.

Written statements may be submitted at any time or in response to the stated agenda of a planned meeting of the National Intelligence University Board of Visitors. All written statements shall be submitted to the Designated Federal Officer for the National Intelligence University Board of Visitors, and this individual will ensure that the written statements are provided to the membership for their consideration. Contact information for the Designated Federal Officer can be obtained from the GSA's FACA Database— http://www.facadatabase.gov/.

Dated: May 17, 2019.
Aaron T. Siegel,
Alternate OSD Federal Register Liaison Officer, Department of Defense.

[FR Doc. 2019-10754 Filed 5-22-19; 8:45 am]

BILLING CODE 5001-06-P